DEPARTMENT OF TRANSPORTATION

Federal Aviation Administration

Printing and Distribution Changes for Airworthiness Directives and Special Airworthiness Information Bulletins

AGENCY: Federal Aviation Administration (DOT).

ACTION: Notice of policy change.

SUMMARY: This notice announces the FAA's planned policy changes in the printing and distribution of airworthiness directives (AD) and special airworthiness information bulletins (SAIB). This planned change in policy is part of our transition to full electronic distribution of ADs and SAIBs.

DATES: Comments must be received on or before September 8, 2006.

ADDRESSES: Send your comments on the planned policy changes electronically by logging onto the following Web site: http://www.faa.gov/aircraft/draft_docs/. You may mail a hard copy of your comments to: Federal Aviation Administration, Aircraft Engineering Division, Delegation and Airworthiness Programs Branch, AIR-140, MMAC, P.O. Box 26460, Oklahoma City, OK 73125. Attn: Mary Ellen Anderson. Or deliver comments to: Federal Aviation Administration, Room 815, 800 Independence Avenue, SW., Washington, DC 20591.

FOR FURTHER INFORMATION CONTACT: Mary Ellen Anderson, Federal Aviation Administration, Aircraft Certification Service, Aircraft Engineering Division, Delegation and Airworthiness Programs Branch, AIR-140, 6500 S. MacArthur Blvd., Oklahoma City, Oklahoma 73125; phone: (405) 954-7071; fax: (405) 954-2209.

SUPPLEMENTARY INFORMATION:

Comments Invited

Interested persons are invited to comment on the planned policy changes by submitting written data, views, or arguments to the above address. Comments received may be examined, both before and after the closing date, at the Federal Aviation Administration, Room 815, 800 Independence Avenue, SW., Washington, DC 20591, weekends except Federal holidays, between 8:30 a.m. and 4:30 p.m. The Director, Aircraft Certification Service, will consider all comments received on or before the closing date.

Background

ADs are legally enforceable rules that apply to products (aircraft, aircraft engines, propellers, and appliances). ADs are issued when we find that an unsafe condition exists in a product, and the unsafe condition is likely to exist or develop in other products of the same design type design. All final rule ADs are offered to the public by: (1) Publishing in the Federal Register at http://www.gpoaccess.gov/fr/advanced.html; (2) accessing the FAA's Web site at: http://www.faa.gov/aircraft/safety/alerts; and (3) mailing to all registered owners and operators of the affected product.

Emergency ADs (EAD) are issued when an unsafe condition exists that requires immediate corrective action. These types of ADs are mailed or faxed to all registered owners and operators of the affected product. After we mail or fax the EAD, it is published as a final rule in the Federal Register and this version is also mailed to owners and operators of the product, resulting in an owner or operator receiving the same information twice.

Special Airworthiness Information Bulletins (SAIB) provide recommended actions that owners and operators may use to improve the safety of their products. Because the information contained in SAIBs is not mandatory, they are not published in the Federal Register; instead we have mailed them to owners and operators as a public service.

Since the advent of the internet and the Federal Government's initiative to make more information available to the public electronically, it is the intent of this notice to inform the public of our policy initiative to make documents available to the public on the internet and eliminate what is now evident to be an unnecessary printing and mailing expense.

Policy

We will begin implementation of the following changes in the dissemination of all final rule ADs, EADs, and SAIBs effective immediately:

(a) We will no longer mail AD corrections (corrections that don't receive a new amendment number and AD number) to affected owners and operators. ADs requiring corrections will continue to be published in their entirety in the Federal Register and on our website. ADs resubmitted because of a required “correction” will be so identified on our AD web page.

(b) We will only mail ADs applicable to a certain engine model to the owners and operators who have registered their engine, not to the registered aircraft owners and operators referenced in the AD.

(c) We will only mail the regulatory text, or “body”, of ADs to registered owners and operators. We will no longer include the preamble information along with the text of the AD. Note that the complete text of ADs can be viewed by logging onto the Federal Register or FAA Web site. We will include both internet addresses in every mailed AD.

(d) We will continue to mail or fax EADs to affected owners and operators. However, the final rule version of an EAD will no longer be mailed to owners and operators since this is a duplicate mailing.

(e) We will no longer mail SAIBs to individual owners, operators, or repair stations. Instead, we have a new e-mail subscription service available on our SAIB Web page. As such, we are advising those interested to sign up for the SAIB free e-mail service and check our Web site at www.faa.gov/aircraft/safety/alerts regularly for new SAIB postings.

Susan J.M. Cabler,
Assistant Manager, Aircraft Engineering Division, Aircraft Certification Service.

[FR Doc. 06-7114 Filed 8-23-06; 8:45 am]

BILLING CODE 4910-13-M